EXPORT-IMPORT BANK

Notice for the Request of Applications: 2024-2025 EXIM Advisory Committees and Councils

Time and Date: Monday, April 1-Friday, April 26, 2024.

Status: The Export-Import Bank of the United States (EXIM) is accepting applications for the 2023-2024 EXIM Advisory Committee, Sub-Saharan Africa Advisory Committee, Council on Climate and Energy Transition, Council on China Competition, Council on Small Business, and Council on Advancing Women in Business from April 1-April 26, 2024.

Candidates wishing to be considered for membership must submit an application https://www.exim.gov/leadership-governance/advisory-committees and include the following:

• Biography

• Headshot

• Statement of interest showing relevant knowledge, experience, and qualifications (500 words max)

Completed application materials must be submitted by 5:30 p.m. EDT, April 26, 2024.

Advisory Committee

The Advisory Committee provides guidance to EXIM on its policies and programs, in particular on the extent to which EXIM provides competitive financing to support American jobs through exports.

Sub-Saharan Africa Advisory Committee

The Sub-Saharan Africa Advisory Committee provides advice on EXIM policies and programs designed to support the expansion of financing support for U.S. manufactured goods and services in Sub-Saharan Africa.

Council on Climate and Energy Transition

This council advises how EXIM can further support U.S. exporters in clean energy, deal pipeline development and to meet congressional mandates to support environmentally beneficial renewable energy, energy efficiency, and energy storage exports.

Council on China Competition

The Council on China Competition offers guidance on advancing the comparative leadership of the United States with respect to China and supporting U.S. innovation and employment through competitive export finance.

Council on Small Business

The Council on Small Business provides recommendations to help more American small business exporters find new markets, achieve more sales, and lower the risk of selling internationally.

Council on Advancing Women in Business

The Council on Advancing Women in Business advises how EXIM can reach more women business leaders and owners and better consider equity goals set in the agency's strategy.

Contact Person for More Information

For more information about applying for membership to any of the committees, please contact India Walker at advisory@exim.gov.

SUPPLEMENTARY INFORMATION: The Advisory Committee has been established as directed by Section 3(d) of the Export- Import Bank Act of 1945 (the “Act”), 12 U.S.C. 635a(d)(1)(A). This Advisory Committee is chartered in accordance with the Federal Advisory Committee Act (“FACA”), 5 U.S.C. App.

Lin Zhou,
IT Specialist.

[FR Doc. 2024-07176 Filed 4-9-24; 8:45 am]

BILLING CODE 6690-01-P